DEPARTMENT OF LABOR

Employment and Training Administration

[TA-W-62,855]

Westpoint Home, New York Sales Offices, New York, NY; Notice of Termination of Investigation

Pursuant to section 221 of the Trade Act of 1974, as amended, an investigation was initiated on February 14, 2008 in response to a worker petition filed by a company official, on behalf of workers of WestPoint Home, New York Sales Offices, New York, New York.

The petitioner has requested that the petition be withdrawn. Consequently, the investigation has been terminated.

Signed at Washington, DC, this 22nd day of February 2008.
Richard Church,
Certifying Officer, Division of Trade Adjustment Assistance.

[FR Doc. E8-3790 Filed 2-28-08; 8:45 am]

BILLING CODE 4510-FN-P